DEPARTMENT OF LABOR

Office of the Secretary

Bureau of International Labor Affairs; Office of Foreign Relations; Global HIV/AIDS Workplace Education Program

AGENCY: Bureau of International Labor Affairs (ILAB), Office of the Secretary, Labor.

ACTION: Notice of availability of funds and request for interested parties.

SUMMARY: The Bureau of International Labor Affairs (ILAB) in the Office of the Secretary, will award funds to multilateral organizations (other than profit-making organizations) to develop and implement HIV/AIDS workplace education programs on a worldwide basis. ILAB is seeking notices of interest from qualified organizations for the implementation of workplace prevention education for HIV/AIDS, capacity building activities for government, business, and labor to respond to the pandemic outbreak, and development of workplace policy statements addressing the issue of stigma and discrimination against people living with HIV/AIDS. Applications should not be submitted; another notice will announce the solicitation for grant applications, if necessary. Authority for this program may be found in the Consolidated Appropriations Act, 2001.

DATES: The notice deadline is 4:30 p.m., Eastern Daylight Time, May 3, 2001. Notice must be mailed to Lisa Harvey, Grant Officer, OASAM, U.S. Department of Labor, 200 Constitution Avenue, NW., Room N 5416, Washington, DC 20210. Notices will not be accepted by fax.

FOR FURTHER INFORMATION CONTACT: Cathryn Celeste Helm, Coordinator, USDOL Global HIV/AIDS Workplace Program, telephone: (202) 693-4818 (this is not a toll-free number); e-mail: helm-cathryn@dol.gov <mailto:helm-cathryn@dol.gov>

SUPPLEMENTARY INFORMATION:

What Is the Purpose of the Program?

The grants provide funds for prevention and education activities focusing on training for Ministries of Labor, employers, and workers (tripartite stakeholders) to reduce the number of new HIV infections for workers, their families, and communities.

The program emphasizes three areas:

• Prevention education in the workplace for HIV/AIDS, addressing gender issues and referral to care and support services, including confidential voluntary counseling and testing;

• Workplace policy statements/codes of conduct addressing issues of discrimination against workers living with HIV/AIDS; and

• Capacity building for the tripartite social partners—coordinating and strengthening the response of government, business, and labor leaders.

Grantees are expected to conduct mission trips in targeted countries, develop project designs, implement comprehensive education programs addressing HIV/AIDS and related socio-economic issues, develop workplace policy statements addressing issues of discrimination, work with the tripartite stakeholders to provide prevention education and build political will, and conduct studies on the socio-economic impact of HIV/AIDS. Grantees also will be expected to monitor and evaluate the results of the program through baseline and knowledge assessment surveys.

Who Is Eligible To Apply for a Grant?

Any multilateral organization (other than profit-making organizations) is eligible to apply.

What Can Grant Funds Be Spent On?

Grant funds can be spent on any of the following:

• Conducting mission trips.

• Developing project designs.

• Development and dissemination of information, education, and communication (IEC) materials.

• Conducting training activities, including workshops.

• Developing workplace policy statements.

• Reviewing labor laws on discrimination.

• Impact studies on the socio-economic impact of HIV/AIDS.

• Conducting baseline surveys and knowledge assessment studies.

What Are the Grant Requirements?

* ILAB overview of project designs. ILAB will review project designs developed by the grantee for necessary project components and technical relevance of activities. ILAB will also review information, education and communication materials.

* OMB and regulatory requirements. Grantees must comply with the following requirements:

• 29 CFR part 95, which covers grant requirements for nonprofit organizations, when applicable.

• OMB Circular A-122, which describes allowable and unallowable costs for nonprofit organizations, other than educational institutions, when applicable.

How Are Applications Reviewed and Rated?

ILAB will review grant applications and present the results to the Grant Officer who will make the selection of organizations to be awarded grants. In general, applications which do not propose to meet the necessary criteria will not be selected.

The following factors will be considered in evaluating a grant application:

1. Program Design: The proposed HIV/AIDS workplace education program must address all of the following:

* Education and training for government, business, and labor leaders, as well as private work sites and vocational schools, as appropriate.

* Development of workplace policy statements/codes of conduct.

* Capacity building for the tripartite stakeholders.

* The proposal has clearly stated objectives and activities, which are appropriate and related to the stated objectives.

* The organization has the global infrastructure and human resources to conduct the program on a worldwide basis, and to reach out directly to the tripartite social partners.

* The proposal includes plans for baseline surveys and knowledge assessment studies, and studies on the socio-economic impact of HIV/AIDS.

* The proposal includes a plan to evaluate the program's effectiveness and includes plans for sustainability of the program.

2. Capability of the Organization to Provide Services:

* The organization applying for the grant has experience in or the capability of working directly with the tripartite stakeholders, experience or the capability of reviewing and drafting legislative frameworks, and developing workplace policies and codes of conduct addressing discrimination.

* The organization applying for the grant has experience in or the capability of performing workplace education.

* The organization applying has experience in or the capability of managing a variety of programs.

* The application is complete, including forms, budget detail, narrative, work plan, and required attachments.

Note: The capability of the organization may be demonstrated by one or more staff members assigned to oversee the project having experience in the following areas:

(1) Workplace safety and health programs; (2) labor law and codes of conduct; (3) research on the socio-economic impact of HIV/AIDS; and (4) the capacity to develop direct access to Ministries of Labor, employers' organizations, and trade union representatives or comparable entities.

3. Budget:

* The budgeted costs are reasonable.

* The budget complies with Federal cost principles (which can be found in the applicable OMB Circulars) and with ILAB budget requirements contained in the grant application instructions.

How Much Money Is Available for Grants?

There is approximately $ 8.5 million available for this program. The agency has not determined the number of grants to be awarded and the amount of each grant award.

What Is the Length of Time for the Grants Awarded?

The grants are to be awarded for a three-year period.

What the Notice of Interest Should Include?

The Notice of Interest must include a brief description of the interested party and brief summary of types of past grants that the interested party has been awarded. The notice should be no longer than two pages.

Signed in Washington, DC, this 12th day of April, 2001.
Lawrence Kuss,
Grant Officer.

[FR Doc. 01-9573 Filed 4-17-01; 8:45 am]

BILLING CODE 4510-28-P